ENVIRONMENTAL PROTECTION AGENCY

[EPA-HQ-OAR-2006-0947; FRL—9901-08-OAR]

Proposed Information Collection Request; Comment Request; NOX Budget Trading Program To Reduce the Regional Transport of Ozone (Renewal)

AGENCY: Environmental Protection Agency (EPA).

ACTION: Notice.

SUMMARY: The Environmental Protection Agency is planning to submit an information collection request (ICR), “Information Collection Request Renewal for the NOX Budget Trading Program to Reduce the Regional Transport of Ozone” (EPA ICR No. 1857.06, OMB Control No. 2060-0445) to the Office of Management and Budget (OMB) for review and approval in accordance with the Paperwork Reduction Act (44 U.S.C. 3501 et seq.). Before doing so, EPA is soliciting public comments on specific aspects of the proposed information collection as described below. This is a proposed extension of the ICR, which is currently approved through February 28, 2014. An Agency may not conduct or sponsor and a person is not required to respond to a collection of information unless it displays a currently valid OMB control number.

DATES: Comments must be submitted on or before November 18, 2013.

ADDRESSES: Submit your comments, referencing Docket ID No. EPA-HQ-OAR-2006-0947. online using www.regulations.gov (our preferred method), by email to a-and-r-docket@epamail.epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Karen VanSickle, Clean Air Markets Division, Office of Air and Radiation, (6204J), Environmental Protection Agency, 1200 Pennsylvania Ave. NW., Washington, DC 20460; telephone number: (202) 343-9220; fax number: (202) 343-2361; email address: vansickle.karen@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The NOX Budget Trading Program is a market-based cap and trade program created to reduce emissions of nitrogen oxides (NOX) from power plants and other large combustion sources in the eastern United States. NOX is a prime ingredient in the formation of ground-level ozone (smog), a pervasive air pollution problem in many areas of the eastern United States. The NOX Budget Trading Program was designed to reduce NOX emissions during the warm summer months, referred to as the ozone season, when ground-level ozone concentrations are highest. In 2009 the program was replaced by the Clean Air Interstate Rule Ozone Season Trading Program (CAIROS). Although the trading program was replaced after the 2008 compliance season, this information collection is being renewed for two reasons. First, some industrial sources in certain States are still required to monitor and report emissions data to EPA under these rules, so we will account for their burden. Second, the Agency may at some future time, reinstitute the NOX Budget Trading Program. For example, this might happen if both the CAIR and CAIR replacement rules were vacated by the Court. All data received by EPA will be treated as public information. An agency may not conduct or sponsor, and a person is not required to respond to, a collection of information unless it displays a currently valid OMB control number. The OMB control numbers for EPA's regulations in 40 CFR are listed in 40 CFR part 9.

Form Numbers: None.

Respondents/affected entities: Entities potentially affected by this action are those which participate in the NOX Budget Trading Program to Reduce the Regional Transport of Ozone.

Respondent's obligation to respond: mandatory (Sections 110(a) and 301(a) of the Clean Air Act).

Estimated number of respondents: EPA estimates that there are 122 former NOX Budget Trading Program units that will continue to conduct monitoring in accordance with Part 75 solely under the NOX SIP call.

Frequency of response: yearly, quarterly, occasionally.

Total estimated burden: 57,586 hours (per year). Burden is defined at 5 CFR 1320.3(b).

Total estimated cost: $7,466.951 (per year), includes $3,777,000 annualized capital or operation & maintenance costs.

Changes in Estimates: There is no increase in hours in the total estimated respondent burden compared with the ICR currently approved by OMB.

Dated: August 29, 2013.
Reid Harvey,
Director, Clean Air Markets Division.

[FR Doc. 2013-22602 Filed 9-16-13; 8:45 am]

BILLING CODE 6560-50-P